DEPARTMENT OF TRANSPORTATION

Federal Aviation Administration

Notice of Intent To Rule on Passenger Facility Charge (PFC) Application 08-08-C-00-SMF, To Impose and Use PFC Revenue at Sacramento International Airport, Sacramento, CA

AGENCY: Federal Aviation Administration (FAA), DOT.

ACTION: Notice of Intent to Rule on Application.

SUMMARY: The FAA proposes to rule and invites public comment on the application to impose and use PFC revenue at Sacramento International Airport, under the provisions of the Aviation Safety and Capacity Expansion Act of 1990 (Title IX of the Omnibus Budget Reconciliation Act of 1990) (Public Law 101-508) and Part 158 of the Federal Aviation Regulations (14 CFR part 158).

DATES: Comments must be received on or before November 10, 2008.

ADDRESSES: Comments on this application may be mailed or delivered in triplicate to the FAA at the following address: Federal Aviation Administration, Airports Division, 15000 Aviation Blvd., Room 3012, Lawndale, CA 90261, or San Francisco Airports District Office, 831 Mitten Road, Room 210, Burlingame, CA 94010. In addition, one copy of any comments submitted to the FAA must be mailed or delivered to Mr. G. Hardy Acree, Director of Airports, Sacramento County Airport System, at the following address: 6900 Airport Boulevard, Sacramento, CA 95837. Air carriers and foreign air carriers may submit copies of written comments previously provided to the Sacramento County Airport System under section 158.23 of Part 158.

FOR FURTHER INFORMATION CONTACT: T J Chen, Program Manager, San Francisco Airports District Office, 831 Mitten Road, Room 210, Burlingame, CA 94010, Telephone: (650) 876-2778, extension 625. The application may be reviewed in person at this same location.

SUPPLEMENTARY INFORMATION: The FAA proposes to rule and invites public comment on the application to impose and use PFC revenue at Sacramento International Airport under the provisions of the 49 U.S.C. 40117 and Part 158 of the Federal Aviation Regulations (14 CFR Part 158). On July 28, 2008, the application was found not substantially complete and the public agency supplemented the application on September 11, 2008, within the requirements of section 158.27 of Part 158. The FAA will approve or disapprove the application, in whole or in part, no later than January 9, 2009.

The following is a brief overview of the impose and use application No. 08-08-C-00-SMF:

Proposed charge effective date: July 1, 2011.

Proposed charge expiration date: October 1, 2030.

Level of the proposed PFC: $4.50.

Total estimated PFC revenue: $603,497,524.

Description of Proposed Project:

Impose and use: Terminal Modernization Program (TMP)—This project is a new landside Central Terminal B to replace the existing Terminal B facilities. The new Central Terminal B will be connected via an automated people mover to the 19 gate airside Concourse B. The new Terminal B will be served by a dual level roadway system and a new automobile parking garage. The TMP also includes construction of remote public parking, a centralized receiving warehouse, landscaping, demolition of existing facilities, and modification of Terminal A for additional tenants and gates.

Class or classes of air carriers which the public agency has requested not be required to collect PFCs: None.

Any person may inspect the application in person at the FAA office listed above under FOR FURTHER INFORMATION CONTACT and at the FAA Regional Airports Division located at: Federal Aviation Administration, Airports Division, 15000 Aviation Blvd., Room 3012, Lawndale, CA 90261. In addition, any person may, upon request, inspect the application, notice and other documents germane to the application in person at the Sacramento County Airport System.

Issued in Lawndale, California, on September 24, 2008.
Mia Paredes Ratcliff,
Acting Manager, Airports Division Western-Pacific Region.

[FR Doc. E8-23911 Filed 10-8-08; 8:45 am]

BILLING CODE 4910-13-P